FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 1857N.

Name: Air/Sea Forwarding Specialists, Inc.

Address: 4354-A Old Shell Road, #320, Mobile, AL 36608-2000.

Date Revoked: June 19, 2002.

Reason: Failed to maintain a valid bond.

License Number: 3414F.

Name: Byung H. Yoo dba Summit Trans Lines.

Address: 14900 S. Avalon Blvd., Gardena, CA 90248-2013.

Date Revoked: June 23, 2002.

Reason: Failed to maintain a valid bond.

License Number: 2697F.

Name: Carmen Colon dba Carmenco International.

Address: Brooklyn Navy Yard, Bldg. #3, Brooklyn, NY 11205.

Date Revoked: June 5, 2002.

Reason: Failed to maintain a valid bond.

License Number: 4513F.

Name: Kevin C. Ahn dba Baytop Container Co.

Address: 2800 Plaza Del Amo Blvd., Torrance, CA 90503.

Date Revoked: July 5, 2002.

Reason: Failed to maintain a valid bond.

License Number: 2505NF.

Name: Pacific Express Cargo, Inc.

Address: 8125 NW 67th Street, Miami, FL 33166.

Date Revoked: June 20, 2002 and June 30, 2002.

Reason: Failed to maintain valid bonds.

License Number: 3478N.

Name: Sextant Overseas Shipping Corp.

Address: P.O. Box 126, Endid Road, Summit, NY 12175.

Date Revoked: June 19, 2002.

Reason: Failed to maintain a valid bond.

License Number: 15605F.

Name: Solid Trans Inc.

Address: 5146 W. 104th Street, Inglewood, CA 90304.

Date Revoked: June 30, 2002.

Reason: Failed to maintain a valid bond.

License Number: 3873F.

Name: U.S. Cargo, Inc.

Address: 8535 NW 29th Street, Miami, FL 33122-1919.

Date Revoked: July 6, 2002.

Reason: Failed to maintain a valid bond.

Dated: August 23, 2002.
Sandra L. Kusumoto,
Director, Bureau of Consumer Complaints and Licensing.

[FR Doc. 02-21948 Filed 8-27-02; 8:45 am]

BILLING CODE 6730-01-P